DEPARTMENT OF ENERGY

Federal Energy Regulatory Commission

[Docket No. EG03-73-000, et al.]

Tractebel Property Management, Inc., et al.; Electric Rate and Corporate Filings

June 9, 2003.

The following filings have been made with the Commission. The filings are listed in ascending order within each docket classification.

1. Tractebel Property Management, Inc.

[Docket No. EG03-73-000]

Take notice that on June 5, 2003, Tractebel Property Management, Inc. (TPMI), a Delaware corporation with its principal place of business in Houston, Texas, filed with the Federal Energy Regulatory Commission an application for determination of exempt wholesale generator status pursuant to part 365 of the Commission's regulations.

TPMI states that it will provide operating and maintenance services to a 350-MW power generation facility located in Ennis, Texas (the Facility). The Facility will generate electricity that will be sold into the wholesale power market of the Electric Reliability Council of Texas.

Comment Date: June 26, 2003.

2. California Independent System Operator Corporation

[Docket No. ER01-836-004]

Take notice that on June 5, 2003, the California Independent System Operator Corporation (ISO) submitted a filing in compliance with the Commission's May 6, 2003 Order issued in Docket No. ER01-836-000, 103 FERC ¶ 61,132.

The ISO states that it has also served copies of this filing upon all entities that are on the official service list for the docket.

Comment Date: June 26, 2003.

3. Devon Power LLC, Middletown Power LLC, Montville Power LLC, Norwalk Power LLC, and, NRG Power Marketing Inc.

[Docket No. ER03-563-008]

Take notice that on June 4, 2003, Devon Power LLC, Middletown Power LLC, Montville Power LLC, Norwalk Power LLC (collectively Applicants) and NRG Power Marketing Inc., tendered for filing Second Revised Cost of Service Agreements among each of the Applicants, NRG Power Marketing Inc., as agent for each Applicant, and ISO New England Inc.

Applicants state that the purpose of the filing is to permit Applicants to recover certain costs and expenses they incur in connection with escrow and trust agreements entered into pursuant to the Commission's Orders, issued March 25 and April 25, 2003 in Docket No. ER03-563-000. Applicants state that they have provided a copy of this filing to ISO-NE on the date of filing and to each person designated on the official service list compiled by the Secretary in this proceeding.

Comment Date: June 25, 2003.

4. Devon Power LLC, Middletown Power LLC, Montville Power LLC, Norwalk Power LLC, and NRG Power Marketing Inc.

[Docket No. ER03-563-009]

Take notice that on June 5, 2003, Devon Power LLC, Middletown Power LLC, Montville Power LLC, Norwalk Power LLC (collectively Applicants) and NRG Power Marketing Inc., tendered an Errata Filing to their Compliance filing submitted on May 28, 2003 in Docket No. ER03-563-006.

Applicants states that they have provided a copy of this filing to ISO-NE, provided courtesy copies to potentially affected state regulatory authorities, and served copies of the filing to each person designated on the official service list compiled by the Secretary in this proceeding.

Comment Date: June 26, 2003.

5. Maxim Energy Partners, LLC

[Docket No. ER03-827-001]

Take notice that on June 5, 2003, Maxim Energy Partners, LLC (Maxim) filed an amendment to its application for market-based rates as a power marketer originally filed on May 6, 2003. Maxim states that the amendment pertains to the request for market-based rate authority for ancillary services. Included in this supplement is a new rate schedule to reflect said changes.

Comment Date: June 26, 2003.

6. New York State Electric & Gas Corporation

[Docket No. ER03-927-000]

Take notice that on June 5, 2003, New York State Electric & Gas Corporation (NYSE) tendered for filing pursuant to Section 35.15 of the Federal Energy Regulatory Commission's (Commission) Rule, 18 CFR 35.15, a cancellation of the Service Agreements for Network Integrated Transmission Service and the accompanying Network Operating Agreements. NYSEG requests that the Notice of Cancellation be deemed effective as of July 1, 2003 for the following Service Agreements:

Purchaser | Number ¹
Bath Electric, Gas & Water Systems | 100
Village of Endicott | 101
Village of Groton | 102
Village of Hamilton | 103
Village of Rouses Point | 104
Village of Sherburne | 105
Village of Silver Springs | 106
Village of Castile | 107
Village of Greene | 108
¹ Service Agreement Nunber.

NYSEG states that copies of the Notice of Cancellation have been served on the customers receiving service under the Service Agreements For Network Integrated Transmission Service and Network Operating Agreements, New York Municipal Power Agency and the New York State Public Service Commission.

Comment Date: June 26, 2003.

7. Sunlaw Energy Partners I, L.P.

[Docket No. ER03-929-000]

Take notice that on June 4, 2003, Sunlaw Energy Partners I, L.P. filed a Notice of Cancellation of Rate Schedule FERC No. 1, Revision 1, and gave notice that it no longer seeks to maintain exempt wholesale generator status.

Comment Date: June 25, 2003.

8. Northeast Utilities Service Company

[Docket No. ER03-930-000]

Take notice that on June 5, 2003, Northeast Utilities Service Company (NUSCO), on behalf of The Connecticut Light and Power Company, Western Massachusetts Electric Company, Holyoke Water Power Company, and Select Energy, Inc., submitted pursuant to Section 205 of the Federal Power Act and part 35 of the Commission's regulations a rate schedule modification for sales of electricity to the City of Chicopee, Massachusetts (Chicopee).

NUSCO states that a copy of this filing has been mailed to Chicopee and the regulatory commission for the Commonwealth of Massachusetts. NUSCO requests that the rate schedule modification become effective on March 1, 2003.

Comment Date: June 26, 2003.

9. DTE East China, LLC

DTE Energy Trading, Inc.

[Docket No. ER03-931-000]

Take notice that on June 5, 2003, DTE East China, LLC (DTE East China) and DTE Energy Trading, Inc. (DTE Energy Trading) submitted for filing, pursuant to Section 205 of the Federal Power Act, and Part 35 of the Commission's regulations, an application (Application) for authorization by DTE East China to make sales of capacity and energy at market-based rates for resale outside of the Michigan Electric Coordinated Systems (MECS) control area; to reassign transmission capacity; to waive certain of the Commission's regulations promulgated under the FPA; and to grant certain blanket approvals under other such regulations. The Application also seeks acceptance for filing of conforming changes to the Rate Schedule FERC No. 1 of DTE Energy Trading to permit DTE East China to make sales of power at market-based rates to DTE Energy Trading for resale outside of the MECS control area.

Comment Date: June 26, 2003.

Standard Paragraph

Any person desiring to intervene or to protest this filing should file with the Federal Energy Regulatory Commission, 888 First Street, NE., Washington, DC 20426, in accordance with rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-15268 Filed 6-16-03; 8:45 am]

BILLING CODE 6717-01-P